DEPARTMENT OF TRANSPORTATION

Pipeline and Hazardous Materials Safety Administration

Hazardous Materials: Notice of Applications for Special Permits

AGENCY: Pipeline and Hazardous Materials Safety Administration (PHMSA), DOT.

ACTION: List of applications for special permits.

SUMMARY: In accordance with the procedures governing the application for, and the processing of, special permits from the Department of Transportation's Hazardous Material Regulations, notice is hereby given that the Office of Hazardous Materials Safety has received the application described herein. Each mode of transportation for which a particular special permit is requested is indicated by a number in the “Nature of Application” portion of the table below as follows: 1—Motor vehicle, 2—Rail freight, 3—Cargo vessel, 4—Cargo aircraft only, 5—Passenger-carrying aircraft.

DATES: Comments must be received on or before January 10, 2018.

ADDRESSES: Record Center, Pipeline and Hazardous Materials Safety Administration U.S. Department of Transportation Washington, DC 20590.

Comments should refer to the application number and be submitted in triplicate. If confirmation of receipt of comments is desired, include a self-addressed stamped postcard showing the special permit number.

FOR FURTHER INFORMATION CONTACT: Ryan Paquet, Director, Office of Hazardous Materials Approvals and Permits Division, Pipeline and Hazardous Materials Safety Administration, U.S. Department of Transportation, East Building, PHH-30, 1200 New Jersey Avenue SE., Washington, DC 20590-0001, (202) 366-4535.

SUPPLEMENTARY INFORMATION: Copies of the applications are available for inspection in the Records Center, East Building, PHH-30, 1200 New Jersey Avenue SE., Washington, DC or at http://regulations.gov.

This notice of receipt of applications for special permit is published in accordance with part 107 of the Federal hazardous materials transportation law (49 U.S.C. 5117(b); 49 CFR 1.53(b)).

Issued in Washington, DC, on December 5, 2017.
Donald Burger,
Chief, General Approvals and Permits Branch.

Application No. | Docket No. | Applicant | Regulation(s) affected | Nature of the special permits thereof
SPECIAL PERMITS DATA
20581-N |  | HARMS PACIFIC TRANSPORT INC | 180.417(a)(3) | To authorize the transportation in commerce of cargo tanks manufactured after August 31, 1995 for which the Manufacturer's Certificate of Compliance is missing. (Mode 1).
20584-N |  | BATTERY SOLUTIONS, LLC | 173.185(f)(3) | To authorize the manufacture, mark, sale, and use of certain drums for the transportation in commerce of certain damaged or defective lithium ion cells and batteries and lithium metal cells and batteries. (Modes, 1, 2, 3)
20588-N |  | Nantong Tank Container Co., Ltd | 178.274(b) | To authorize the manufacture, marking, sale and use of UN portable tanks conforming to portable tank code T50 that have been designed, constructed and stamped in accordance with Section VIII, Division 2 of the ASME Code (plus applicable Code Cases) as the primary pressure vessel code based upon a design reference temperature of 46.10 °C (115 °F). (Modes 1, 2, 3)
20591-N |  | RAYTHEON COMPANY | 173.302 | To authorize the manufacture, mark, sale, and use of non-DOT specification cylinders for transportation of hazardous materials in commerce. (Mode 1)
20592-N |  | AEROJET ROCKETDYNE, INC | 173.56(b) | To authorize the one time transportation of Class 1 materials that no longer in the form previously approved under an EX approval. (Mode 1)
20593-N |  | TRANSPORT LOGISTICS INTERNATIONAL, INC | 173.420(a)(5) | To authorize the one-time, one-way transportation in commerce of cylinders filled in excess of the authorized filling limits. (Mode 1)
20594-N |  | Sherwin-Williams Manufacturing Company | 172.400, 172.500, 172.200, 172.300, 173.1 | To authorize the transportation in commerce of certain hazardous materials without being subject to certain packaging, labeling, marking, placarding, and shipping papers requirements. (Mode 1).

[FR Doc. 2017-26600 Filed 12-8-17; 8:45 am]

BILLING CODE 4901-60-P